DEPARTMENT OF COMMERCE

Foreign-Trade Zones Board

[B-8-2014]

Foreign-Trade Zone 265—Conroe, Texas, Revision to Production Authority, Bauer Manufacturing Inc., (Pile Drivers, Boring Machinery, and Foundation Construction Equipment), Conroe, Texas

On January 9, 2014, the City of Conroe, Texas, grantee of FTZ 265, submitted a notification of proposed revision to existing production authority to the Foreign-Trade Zones (FTZ) Board on behalf of Bauer Manufacturing Inc., within FTZ 265—Site 1, in Conroe, Texas.

The notification was processed in accordance with the regulations of the FTZ Board (15 CFR part 400), including notice in the Federal Register inviting public comment (79 FR 8156, 2-11-2014). The FTZ Board has determined that no further review of the proposed revision to the scope of production authority is warranted at this time. The proposed revision described in the notification is authorized, subject to the FTZ Act and the FTZ Board's regulations, including Section 400.14.

Dated: May 9, 2014.
Andrew McGilvray,
Executive Secretary.

[FR Doc. 2014-11237 Filed 5-14-14; 8:45 am]

BILLING CODE 3510-DS-P